DEPARTMENT OF AGRICULTURE

Forest Service

Tuolumne County Resource Advisory Committee

AGENCY: Forest Service, USDA.

ACTION: Notice of meeting.

SUMMARY: The Tuolumne County Resource Advisory Committee (RAC) will meet on May 16, 2005 at the City of Sonora Fire Department, in Sonora, California. The primary purpose of the meeting is to review new project proposals. The Committee will view a video “Communities for Health Forests”, and receive briefings on a concept papers regarding integrated fuels reduction projects, and the national RAC meeting held in Reno, Nevada.

DATES: The meeting will be held May 16, 2005, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkaunert@fs.fed.us.

SUPPLEMENTARY INFORMATION: Agenda items include: (1) View a video “Communities for Healthy Forests”; (2) Concept papers regarding integrated fuels reduction projects; (3) National Resource Advisory Committee meeting held in Reno, Nevada; (4) Review new project proposals; (5) public comment. This meeting is open to the public.

Dated: April 26, 2005.
Jerry L. Snyder,
Acting Forest Supervisor.

[FR Doc. 05-8653 Filed 4-29-05; 8:45 am]

BILLING CODE 3410-ED-M